ENVIRONMENTAL PROTECTION AGENCY

[9926-13-Region 9]

San Gabriel Valley Area 2 Superfund Site; Proposed Notice of Administrative Settlement

AGENCY: Environmental Protection Agency (EPA).

ACTION: Notice; request for public comment.

SUMMARY: In accordance with the Comprehensive Environmental Response, Compensation and Liability Act of 1980, as amended by the Superfund Amendments and Reauthorization Act of 1986 (CERCLA), 42 U.S.C. 9600 et seq., notice is hereby given that a proposed Agreement and Covenant Not to Sue (Prospective Purchaser Agreement) associated with the San Gabriel Valley Area 2 Superfund Site was executed by the United States Environmental Protection Agency (EPA) on March 25, 2015. The proposed Prospective Purchaser Agreement would resolve certain potential claims of the United States under sections 106 and 107(a) of CERCLA, 42 U.S.C. 9606 and 9607(a) against Reichhold LLC, a Delaware corporation (the Purchaser). The Purchaser plans to acquire Reichhold, Inc.'s chemical plant, comprising approximately 8.878 acres, located at 237 South Motor Avenue, Azusa, California, within the Baldwin Park Operable Unit (BPOU) of the San Gabriel Valley Area 2 Superfund Site. The proposed settlement would provide the following benefit to EPA: The purchaser will pay $800,000 in cash, to be held in reserve in a special account for future cleanup work at the BPOU, as needed. Reichhold, Inc., is not a signatory to the Prospective Purchaser Agreement. The Purchaser is not directly affiliated with Reichhold, Inc.

For 30 calendar days following the date of publication of this notice, EPA will receive written comments relating to the proposed settlement. EPA's response to any comments received will be available for public inspection at the U.S. Environmental Protection Agency, 75 Hawthorne Street, San Francisco, CA 94105.

DATES: Submit comments on or before May 13, 2015.

ADDRESSES: The proposed Prospective Purchaser Agreement is available for public inspection at the U.S. Environmental Protection Agency, 75 Hawthorne Street, San Francisco, CA 94105. The document can be accessed through the Internet on EPA Region 9's Web site located at: http://www.epa.gov/region09/waste/brown/ppa.html.

A copy of the proposed settlement may also be obtained from Janet A. Magnuson, Assistant Regional Counsel, (ORC-3), Office of Regional Counsel, U.S. EPA Region IX, 75 Hawthorne Street, San Francisco 94105. Comments should reference “Reichhold, LLC PPA, San Gabriel Valley Area 2 Superfund Site” and “Docket No. 2015-04” and should be addressed to Janet A. Magnuson at the above address.

FOR FURTHER INFORMATION CONTACT: Janet Magnuson, Assistant Regional Counsel (ORC-3), Office of Regional Counsel, U.S. EPA Region IX, 75 Hawthorne Street, San Francisco, CA 94105; phone: (415) 972-3887; fax: (415) 947-3570; email: magnuson.janet@epa.gov.

Dated: March 31, 2015.
Enrique Manzanilla,
Superfund Division Director, U.S. EPA Region IX.

[FR Doc. 2015-08427 Filed 4-10-15; 8:45 am]

BILLING CODE 6560-50-P